DEPARTMENT OF ENERGY

Federal Energy Regulatory Commission

18 CFR Part 35

[Docket No. RM12-3-000]

Revisions to Electric Quarterly Report Filing Process; Availability of Draft XML Schema

AGENCY: Federal Energy Regulatory Commission, DOE.

ACTION: Notification of availability.

SUMMARY: The Federal Energy Regulatory Commission is making available on its Web site (http://www.ferc.gov), Extensible Mark-Up Language (XML) needed to make Electric Quarterly Report (EQR) filings with one of the new filing processes adopted in Order No. 770, in the Commission's Final Rule, 77 FR 71288 (November 30, 2012). Please refer to the SUPPLEMENTARY INFORMATION Section below for details.

DATES: The XML is now available at the links mentioned below.

FOR FURTHER INFORMATION CONTACT: Christina Switzer, Office of the General Counsel, Federal Energy Regulatory Commission, 888 First St. NE., Washington, DC 20426, (202) 502-6379.

SUPPLEMENTARY INFORMATION: Take notice that the Federal Energy Regulatory Commission (Commission) is making available on its Web site the Extensible Mark-Up Language (XML) needed to make Electric Quarterly Report (EQR) filings with one of the new filing processes adopted in Order No. 770.¹ The Commission is also posting CSV file samples. Order No. 770 revised the process for filing EQRs. Pursuant to Order No. 770, one of the new processes for filing allows EQRs to be filed using an XML file. The XML schema that is needed to file EQRs in this manner is now posted on the Commission's Web site at http://www.ferc.gov/docs-filing/eqr.asp. While this schema remains subject to any necessary changes prior to the availability of the finalized schema, Commission staff anticipates that changes, if any, will be minor.

¹ Revisions to Electric Quarterly Report Filing Process, Order No. 770, 77 FR 71288 (Nov. 30, 2012), FERC Stats. & Regs. [Regulation Preambles] ¶ 31,338 (cross-referenced at 141 FERC ¶ 61,120) (Nov. 15, 2012).

Any comments or questions concerning the XML schema may be directed to eqr@ferc.gov. Please include “XML Schema” in the subject line of any such email.

We encourage all EQR filers to subscribe to our EQR RSS Feed to stay up-to-date on all updates.

Dated: May 8, 2013.
Kimberly D. Bose,
Secretary.

[FR Doc. 2013-11665 Filed 5-15-13; 8:45 am]

BILLING CODE 6717-01-P